COMMODITY FUTURES TRADING COMMISSION

17 CFR Part 4

RIN 3038-AB34

Exclusion for Certain Otherwise Regulated Persons From the Definition of the Term “Commodity Pool Operator”

AGENCY: Commodity Futures Trading Commission.

ACTION: Extension of comment period.

SUMMARY: The Commodity Futures Trading Commission (the “Commission” or “CFTC”) is extending the comment period for the proposed amendment to Rule. 4.5 (the “Proposal”) that would add an alternative limitation on the non-hedge activities of eligible persons claiming relief under the rule. The new deadline for submitting public comments is January 13, 2003.

DATES: Written comments must be received on or before January 13, 2003.

ADDRESSES: Comments on the proposed rule should be sent to Jean A. Webb, Secretary, Commodity Futures Trading Commission, Three Lafayette Center, 1155 21st Street, NW., Washington, DC 20581. Comments may be sent by facsimile transmission to (202) 418-5528, or by e-mail to secretary@cftc.gov. Reference should be made to “Proposed Amendment to Rule 4.5 for Non-Hedge Activity.”

FOR FURTHER INFORMATION CONTACT: Barbara S. Gold, Associate Director, Division of Clearing and Intermediary Oversight, or Ronald Hobson, Industry Economist, Office of the Chief Economist, Commodity Futures Trading Commission, 1155 21st Street, NW., Washington, DC 20581, telephone number: (202) 418-5441 or (202) 418-5285, respectively; facsimile number: (202) 418-5536, or (202) 418-5660, respectively, and electronic mail: gbold@cftc.gov or 3rhobson@cftc.gov, respectively.

SUPPLEMENTARY INFORMATION: On October 28, 2002, the Commission published for comment a proposed amendment to Rule 4.5,¹ the rule that excludes certain eligible persons from the definition of the term “commodity pool operator” with respect to the operation of certain otherwise regulated entities, provided that certain commodity interest trading restrictions are met. The Proposal would add an alternative criterion for permissible non-hedge commodity interest trading by entities with respect to which exemption is claimed under Rule 4.5. The Proposal established a 45-day period for submitting public comment, ending December 12, 2002.

¹ 67 FR 65743.

By letter dated December 10, 2002, a law firm representing futures industry participants requested an extension of the Proposal's comment period so that the expiration date of this comment period would conform with the expiration date of the comment period for the Commission's Advance Notice of Proposed Rulemaking (“ANPR”) regarding further exemptions from commodity pool operator and commodity trading advisor registration,² which is January 13, 2003. The request claims substantial overlap of many of the issues raised by the Proposal and by the ANPR and thus that conforming period for the two releases would facilitate a comprehensive treatment of related issues.

² 67 FR 68785 (November 13, 2002).

In response to this request and in order to ensure that an adequate opportunity is provided for submission of meaningful comments, the Commission has determined to extend the comment period for the Proposal for an additional thirty days to January 13, 2003.

Issued in Washington, DC on 12, 2002, by the Commission.
Jean A. Webb,
Secretary of the Commission.

[FR Doc. 02-31847 Filed 12-17-02; 8:45 am]

BILLING CODE 6351-01-M